DEPARTMENT OF TRANSPORTATION

Pipeline and Hazardous Materials Safety Administration

Office of Hazardous Materials Safety; Notice of Applications for Modification of Special Permit

AGENCY: Pipeline and Hazardous Materials Safety Administration, DOT.

ACTION: List of Applications for Modification of Special Permit.

SUMMARY: In accordance with the procedures governing the application for, and the processing of, special permits from the Department of Transportation's Hazardous Material Regulations (49 CFR part 107, subpart B), notice is hereby given that the Office of Hazardous Material Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. There applications have been separated from the new applications for special permits to facilitate processing.

DATES: Comments must be received on or before March 6, 2006.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permits is published in accordance with part 107 of the Federal hazardous materials transportation law (49 U.S.C. 5117(b); 49 CFR 1.53(b)).

Issued in Washington, DC, on February 13, 2006.
R. Ryan Posten,
Chief, Special Permits Program, Office of Hazardous Materials Special Permits & Approvals.

Modification Special Permits
Application No. | Docket No. | Applicant | Regulation(s) affected | Modification of special permit | Nature of special permit thereof
10048-M |  | Epichem, Inc., Haverhill, MA | 49 CFR 173.181; 173.187; 173.201, 202, 211, 212, 226, 227 | 10048 | To modify the special permit to authorize a non-DOT specification cylinder as an additional packaging.
10945-M |  | Structural Composites Industries, Pomona, CA | 49 CFR 173.302(a); 173.304(a); 175.3 | 10945 | To modify the special permit to raise the load sharing capability percentage of the glass fiber wrapping of low pressure cylinders.
12373-M |  | GE Energy Rentals, Inc., Atlanta, GA | 49 CFR 173.306(e)(1) | 12373 | To modify the special permit to authorize an alternative method for testing used refrigerating machines; to eliminate the requirement to maintain a copy of the special permit at each facility where the refrigeration machine is offered, and to eliminate the requirement to carry a copy of the special permit on motor vehicle.
12412-M |  | ChemStation International, Inc., Dayton, OH | 49 CFR 177.834(h); 172.203(a); 172.302(e) | 12412 | To modify the special permit to provide alternative attendance requirements for Class 3 and 8 hazardous materials being unloaded from IBCs while on a motor vehicle.
13169-M |  | ConocoPhillips Alaska, Inc., Anchorage, AK | 49 CFR 172.101(9B) | 13169 | To reissue the exemption originally issued on an emergency basis for the transportation of certain Class 9 materials in UN 31A intermediate bulk containers which exceed quantity limitations when shipped by air.
13554-M |  | Agribusiness Association of Iowa, Des Moines, IA | 49 CFR 173.315(m) | 13554 | To modify the special permit to authorize up to five years to perform the external visual inspection test, conduct the hydrostatic inspection test, and conduct a thickness inspection test for cargo tanks without ASME identification plates.

[FR Doc. 06-1511 Filed 2-16-06; 8:45 am]

BILLING CODE 4909-60-M